INSTITUTE OF PEACE

Announcement of the Priority Grant Competition for Immediate Release

AGENCY: United States Institute of Peace.

ACTION: Notice.

SUMMARY: The Agency announces its ongoing Priority Grant Competition. The Priority Grant Competition focuses on countries and themes as they relate to USIP's mandate. The Priority Grant Competition is restricted to projects that fit the topics identified for each priority area.

The Priority Grant Competition focuses on four countries and two themes.

• Afghanistan

• Iraq

• Pakistan

• Sudan

• Communication for Peacebuilding—Participatory Digital Mapping, Local Media, and Community Engagement

• Arab World Political Transformation

The specific topics for each priority area may be found at our web site at: http://www.usip.org/grants-fellowships/priority-grant-competition.

Deadline: The Priority Grant Competition applications are accepted throughout the year and awards are announced throughout the year. Please visit our web site at: http://www.usip.org/grants-fellowships/priority-grant-competition for specific information on the competition as well as instructions about how to apply.

ADDRESSES: If you are unable to access our Web site, you may submit an inquiry to: United States Institute of Peace, Grant Program • Priority Grant Competition, 2301 Constitution Avenue NW., Washington, DC 20037, (202) 429-3842 (phone), (202) 833-1018 (fax), (202) 457-1719 (TTY), Email: grants@usip.org.

FOR FURTHER INFORMATION CONTACT: The Grant Program, Phone (202) 429-3842, Email: grants@usip.org.

Dated: March 22, 2012.
Michael Graham,
Senior Vice President for Management.

[FR Doc. 2012-7318 Filed 3-27-12; 8:45 am]

BILLING CODE 6820-AR-M